FEDERAL COMMUNICATIONS COMMISSION

47 CFR Part 25

[IB Docket No. 01-185; FCC 03-15]

Flexibility for Delivery of Communications by Mobile Satellite Service Providers in the 2 GHz Band, the L-Band, and the 1.6/2.4 GHz Bands

AGENCY: Federal Communications Commission.

ACTION: Final rule; correction.

SUMMARY: This document corrects one citation in the rule changes published in the Federal Register of June 5, 2003, regarding Flexibility for Delivery of Communications by Mobile Satellite Service Providers in the 2 GHz Band, the L-Band, and the 1.6/2.4 GHz Bands.

DATES: Effective on July 24, 2003.

FOR FURTHER INFORMATION CONTACT: Breck Blalock or James Ball, Policy Division, International Bureau, (202) 418-1460.

SUPPLEMENTARY INFORMATION: On June 5, 2003, the Federal Register published a summary of the final rule in the above captioned proceeding. As published, the final rule contains errors which may prove to be misleading and need to be clarified. In final rule FR Doc. 03-14081, beginning on page 33649 in the issue of June 5, 2003, make the following corrections:

On page 33649 in the 2nd column, remove instruction number 6 and the text.

Dated: July 16, 2003.
Federal Communications Commission.
William F. Caton,
Deputy Secretary.

[FR Doc. 03-18641 Filed 7-23-03; 8:45 am]

BILLING CODE 6712-01-P